DEPARTMENT OF COMMERCE

National Oceanic and Atmospheric Administration

RIN 0648-XE212

Endangered and Threatened Species; Recovery Plans

AGENCY: National Marine Fisheries Service, National Oceanic and Atmospheric Administration (NOAA), Commerce.

ACTION: Notice of availability; extension of public comment period.

SUMMARY: NOAA's National Marine Fisheries Service (NMFS) announces the extension of the comment period for the notice of availability of the public draft of the Endangered Species Act Coastal Multispecies Recovery Plan for the California Coastal Chinook salmon (Oncorhynchus tshawytscha) Evolutionarily Significant Unit (ESU), the Northern California steelhead (O. mykiss) Distinct Population Segment (DPS), and the Central California Coast steelhead (O. mykiss) DPS, which published on October 5, 2015. These species spawn and rear in streams and rivers along the central and northern California coast, and in tributaries to San Francisco Bay. NMFS is soliciting review and comment from the public and all interested parties on the Public Draft Recovery Plan, and will consider all substantive comments received during the review period before submitting the Recovery Plan for final approval. The comment period is being extended—from December 4, 2015, to January 18, 2016—to provide additional opportunity for public comment.

DATES: The deadline for receipt of comments on the Public Draft Recovery Plan published on October 5, 2015 (80 FR 60125), is extended to close of business on January 18, 2016.

ADDRESSES: You may submit comments on the Public Draft Recovery Plan by the following methods:

• Electronic Submissions: Submit all electronic public comments via: WCR_CMSRecoveryplan.comments@noaa.gov

• Mail: Recovery Team, National Marine Fisheries Service, 777 Sonoma Avenue, Room 325, Santa Rosa, CA 95404.

Instructions: Comments must be submitted by one of the above methods to ensure comments are received, documented, and considered by NMFS. Comments sent by any other method, to any other address or individual, or received after the end of the comment period, may not be considered. Attachments to electronic comments will be accepted in Microsoft Word, Excel, or Adobe PDF file formats only.

Electronic copies of the Public Draft Recovery Plan are available online at: http://www.westcoast.fisheries.noaa.gov/protected_species/salmon_steelhead/recovery_planning_and_implementation/north_central_california_coast/north_central_california_coast_salmon_recovery_domain.htm l. A CD-ROM of these documents can be obtained by emailing a request to Andrea.Berry@noaa.gov or by writing to: Recovery Team, National Marine Fisheries Service, 777 Sonoma Avenue, Room 325, Santa Rosa, CA 95404.

FOR FURTHER INFORMATION CONTACT: Korie Schaeffer, (707) 575-6087, Korie.Schaeffer@noaa.gov, or Erin Seghesio, (707) 578-8515, Erin.Seghesio@noaa.gov.

SUPPLEMENTARY INFORMATION:

Extension of Comment Period

On October 5, 2015, (80 FR 60125) we (NMFS) published in the Federal Register a request for public comment on the notice of availability of the Coastal Multispecies Recovery Plan for the California Coastal Chinook salmon (Oncorhynchus tshawytscha) Evolutionarily Significant Unit (ESU), the Northern California steelhead (O. mykiss) Distinct Population Segment (DPS), and the Central California Coast steelhead (O. mykiss) DPS. The public comment period for this action is set to end on December 4, 2015. The comment period is being extended through January 18, 2016, to provide additional opportunity for public comment.

Background

The Endangered Species Act of 1973 (ESA), as amended (16 U.S.C. 1531 et seq.) requires we develop and implement recovery plans for the conservation and survival of threatened and endangered species under our jurisdiction, unless it is determined that such plans would not promote the conservation of the species. The Public Draft Recovery Plan was developed for three salmon and steelhead species: The California Coastal (CC) Chinook salmon ESU, and the Northern California (NC) and Central California Coast (CCC) steelhead DPSs. Between 1997 and 2000, NMFS listed the CCC steelhead DPS (62 FR 43937; August 18, 1997), the CC Chinook salmon ESU (64 FR 50394; September 16, 1999), and the NC steelhead DPS (65 FR 36074; June 7, 2000), as threatened under the ESA due to the precipitous and ongoing declines in their populations.

Our goal is to restore the threatened CC Chinook salmon, and NC and CCC steelhead to the point where they are self-sustaining populations within their ecosystems and no longer need the protections of the ESA.

The Public Draft Recovery Plan

The ESA requires recovery plans incorporate, to the maximum extent practicable: (1) Objective, measurable criteria which, when met, would result in a determination that the species is no longer threatened or endangered; (2) site-specific management actions necessary to achieve the plan's goal for the conservation and survival of the species; and (3) estimates of the time required and costs to implement recovery actions.

The Public Draft Recovery Plan provides background on the natural history, population trends and the potential threats to the viability of CC Chinook salmon, and NC and CCC steelhead. The Public Draft Recovery Plan lays out a recovery strategy to address conditions and threats based on the best available science and incorporates objective, measurable criteria for recovery. The Public Draft Recovery Plan is not regulatory, but presents guidance for use by agencies and interested parties to assist in the recovery of CC Chinook salmon, and NC and CCC steelhead. The Public Draft Recovery Plan identifies actions needed to achieve recovery by improving population and habitat conditions and addressing threats to the species; links management actions to a research and monitoring program intended to fill data gaps and assess effectiveness of actions; incorporates an adaptive management framework by which management actions and other elements may evolve as we gain information through research and monitoring; and describes agency guidance on time lines for reviews of the status of species and recovery plans. To address threats related to the species, the Public Draft Recovery Plan references many of the significant efforts already underway to restore salmon and steelhead access to high quality habitat and to improve habitat previously degraded.

Recovery of CC Chinook salmon, and NC and CCC steelhead will require a long-term effort in cooperation and coordination with Federal, state, tribal and local government agencies, and the community. Consistent with the Recovery Plan, we will implement relevant actions for which we have authority, work cooperatively on implementation of other actions, and encourage other Federal and state agencies to implement recovery actions for which they have responsibility and authority.

In compliance with the requirements of the ESA section 4(f), NMFS is providing public notice and an opportunity to review and comment on the Public Draft Recovery Plan for CC Chinook salmon, and NC and CCC steelhead prior to its final approval.

Authority: 16 U.S.C. 1531 et seq.

Dated: November 25, 2015.
Angela Somma,
Chief, Endangered Species Conservation Division, Office of Protected Resources, National Marine Fisheries Service.

[FR Doc. 2015-30408 Filed 11-30-15; 8:45 am]

BILLING CODE 3510-22-P